DEPARTMENT OF COMMERCE

National Oceanic and Atmospheric Administration

RIN 0648-XD04

Vessel Monitoring Systems; Approved Mobile Transmitting Units for Use in the Fisheries off the West Coast States and in the Western Pacific; Pacific Coast Groundfish Fishery, Open Access Sector

AGENCY: National Marine Fisheries Service (NMFS), National Oceanic and Atmospheric Administration (NOAA), Commerce.

ACTION: Notice of vessel monitoring systems; type-approval.

SUMMARY: This document provides notice of vessel monitoring systems (VMS) approved by NOAA for use by vessels participating in the Pacific Coast Groundfish Fishery, Open Access Sector and sets forth relevant features of the VMS.

ADDRESSES: To obtain copies of the list of NOAA-approved VMS mobile transmitting units and NOAA-approved VMS communications service providers, please contact the VMS Support Center at phone 888-219-9228, fax 301-427-0049, or write to NOAA Fisheries Office for Law Enforcement (OLE), VMS Support Center, 8484 Georgia Avenue, Suite 415, Silver Spring, MD 20910. For more addresses regarding approved VMS, see the SUPPLEMENTARY INFORMATION section, under the heading VMS Provider Address.

FOR FURTHER INFORMATION CONTACT: The public may acquire this notice, installation/activation checklists, and relevant updates by calling the VMS support center, phone 888-219-9228, fax 301-427-0049. For questions regarding the status of VMS provider evaluations, contact Jonathan Pinkerton, National VMS Program Manager, phone 301-427-2300; fax 301-427-0049. For questions regarding the Pacific Coast Groundfish Fishery, Open Access Sector VMS requirement, contact Joe Albert, Northwest Divisional VMS Program Manager, phone 206-526-6135.

SUPPLEMENTARY INFORMATION:

I. VMS Mobile Transceiver Units

A. BOATRACS - FMTC/G

The Boatracs satellite communications VMS transmitting units that meet the minimum technical requirements for the Pacific Coast Groundfish Fishery, Open Access Sector is the BOATRACS - FMTC/G. The address for the Boatracs distributor dealer contact is provided under the heading “VMS Provider Address”.

The FMTC/G is an integrated GPS two-way satellite communications system, consisting of two major hardware components, the Mobile Communication Transceiver (MCT) and the Enhanced Display Unit (EDU). The MCT contains the antenna and integrated GPS which communicates with the satellite and contains the operating circuitry and memory. The EDU is a shock and splash resistant display and key board unit consisting of, a liquid crystal display, keyboard, with adjustable contrast, brightness, and audible alerts. A back light illuminates the display for night view. The EDU has message waiting, no signal, and audible message received indicators.

The Mobile Communications Transceiver is 6.7 inches high, 11.4 inches wide and weighs 11 pounds. The base of the unit is 6.595 inches in diameter. The MCT draws approximately 2.3 amps of current from the power supply while transmitting and 1.2 amps when vessel is idle.

The Enhanced Display Unit is a hardened and splash proof keyboard display unit with a 15-line X 40-character screen that allows for both text and graphics. It is 12.72 inches wide, 9.3 inches long, 2.21 inches in depth, and weighs 3 pounds and is holster mounted in the cabin.

A vessel owner may purchase this system by contacting the entity identified in this notice under the heading “VMS Provider Address”. The owner should identify himself or herself as a vessel owner issued a permit to operate in the Pacific Coast Groundfish Fishery, Open Access Sector, so the transceiver set can be properly configured.

B. Faria WatchDog 750VMS with VTERM

The Faria WatchDog 750VMS with VTERM Features: The transceiver consists of an integrated dual model GPS/GSM/GPRS/Iridium Satellite Communicator mounted in the wheelhouse and antennas mounted atop the vessel. The Faria VTERM is a touch screen display provides the capability to process electronic forms, declarations, and send e-mail. A configuration option is available to automatically send daily status reports to a private e-mail address and position reports to a secure web site where the data is provided on a map and in tabular form. A 2-inch user interface is also included with this system that displays if the MTU is operating properly and can send emergency notification messages to up to four e-mail addresses and/or telephone numbers. The unit is pre-configured and tested for NMFS VMS (non-GMDSS) operations. Authorized dealers who are listed at http://www.vmstracking.com provide satellite commissioning services.

Automatic GPS position reporting starts after transceiver installation and power activation onboard the vessel. The unit is a car radio sized transceiver powered by any 9 to 16 VDC power supply. It is factory configured for automatic reduced position transmissions when the vessel is stationary (i.e., in port) which allows for port stays in a reduced power state and without the need for unit shut down. The unit restarts normal position transmission automatically when the vessel goes to sea.

The Faria WatchDog 750VMS has an omni-directional Iridium, GPS, and GSM/GPRS antennas, providing operation from +/− 5 degrees above or below the horizon anywhere on earth. The GSM/GPRS capability gives the system the additional ability to communicate through the Cingular wireless network where available.

A vessel owner may purchase this system by contacting the entity identified in this notice under the heading “VMS Provider Address”. The owner should identify himself or herself as a vessel owner issued a permit to operate in the Pacific Coast Groundfish Fishery, Open Access Sector, so the transceiver set can be properly configured.

C. The Thrane & Thrane Sailor (TT-3026D) Gold VMS

The Thrane & Thrane Sailor Gold VMS(TT-3026D)have been found to meet the minimum technical requirements for vessels issued permits to operate in the Pacific Coast Groundfish Fishery, Open Access Sector. The address for the Thrane & Thrane distributor contact is provided in this notice under the heading VMS Provider Addresses.

The TT-3026D Gold VMS both feature an integrated GPS/Inmarsat-C unit. The unit is factory pre-configured for NMFS VMS operations (non-Global Maritime Distress & Safety System (non-GMDSS). The Thrane and Thrane Gold VMS includes a marine grade monitor with keyboard and integrated mouse. Satellite commissioning services are provided by Thrane & Thrane personnel.

Automatic GPS position reporting starts after transceiver installation and power activation onboard the vessel. The unit is an integrated transceiver/antenna/GPS design using a floating 10 to 32 VDC power supply. The unit is configured for automatic reduced position transmissions when the vessel is stationary (i.e., in port). It allows for port stays without power drain or power shut down. The unit restarts normal position transmission automatically when the vessel goes to sea.

The TT-3026D provides operation down to +/-15 degree angles. The unit has the capability of two-way communications to send electronic forms and to receive e-mail and other messages. A configuration option is available to automatically send position reports to a private address, such as a fleet management company.

To use the TT-3026D the vessel owner will need to establish an Inmarsat-C system use contract with an approved Inmarsat-C communications service provider. The owner will be required to complete the Inmarsat-C Registration for Service Activation for Maritime Mobile Earth Station. The owner should consult with Thrane & Thrane when completing this form.

Thrane & Thrane personnel will perform the following services before shipment: (1) configure the transceiver according to OLE specifications for vessels issued permits to operate in the Pacific Coast Groundfish Fishery, Open Access Sector; (2) download the predetermined NMFS position reporting and broadcast command identification numbers into the unit; (3) test the unit to ensure operation when installation has been completed on the vessel; and (4) forward the Inmarsat service provider and the transceiver identifying information to OLE.

A vessel owner may purchase this system by contacting the entity identified in this notice under the heading “VMS Provider Address”. The owner should identify himself or herself as a vessel owner issued a permit to operate in the Pacific Coast Groundfish Fishery, Open Access Sector, so the transceiver set can be properly configured.

II. Communications Service Providers

OLE has approved the below-listed communications service providers: Faria GSM/Iridium, Stratos Global, and VIZADA satellite communications services for the Pacific Coast Groundfish Fishery, Open Access Sector.

A. Qualcomm Satellite Service

Qualcomm Enterprise Services delivers integrated wireless applications and services to businesses around the world. We enable enterprises to operate at peak performance and improve the quality of life for customers in their value chain. Mobile workforce, enterprise management, and machine-to-machine communications are some of the key applications being mobilized by enterprises today.

Vessel owners wishing to use Qualcomm services will need to purchase a Boatracs FMTC/G transceiver. Information regarding configuration, installation, and service activation procedures for the transceiver can be obtained from Boatracs. The contact information for Boatracs is located under the heading of VMS provider addresses.

B. Faria GSM/Iridium Service

The Faria Watchdog GSM/Iridium Service is a dual mode GSM/GPRS and Iridium platform to ensure that connections are highly reliable, near real time and cost effective. The primary channel is the GSM/GPRS and the secondary channel is Iridium.

The owner must confirm the operation and communications service to ensure that position reports are automatically sent to and received by OLE before leaving on a fishing trip under VMS. OLE does not regard the fishing vessel as being in compliance until position reports are automatically received. For confirmation purposes, contact the VMS support center, phone 888-219-9228, fax 301-427-0049.

C. INMARSAT-C Communications Providers

It is recommended, for vendor warranty and customer service purposes, that the vessel owner keep for his or her records and that Stratos Global or VIZADA have on record the following identifying information: (a) Signed and dated receipts and contracts; (b) transceiver serial number; (c) VIZADA or Stratos Global customer number, user name and password; (d) e-mail address of transceiver; (e) Inmarsat identification number; (f) owner name; (g) vessel name; (h) vessel documentation or registration number; and (i) mobile earth station license (FCC license).

OLE will provide an installation and activation checklist which the vessel owner must follow. The vessel owner must sign a statement on the checklist certifying compliance with the installation procedures and return the checklist to OLE. Installation can be performed by an electronics specialist, and the installation cost is paid by the owner.

The owner must confirm the operation and communications service to ensure that position reports are automatically sent to and received by OLE before leaving on a fishing trip under VMS. OLE does not regard the fishing vessel as being in compliance until position reports are automatically received. For confirmation purposes, contact the VMS support center, phone 888-219-9228, fax 301-427-0049.

C1. Stratos Global

Stratos Global is a provider Vessel Monitoring Services to the fishing industry. By installing an approved OLE Imarsat-C transceiver on the vessel, fishermen can send and receive E-mail, to and from land, transceiver automatically sends vessel position reports to OLE, and is fully compliant with the International Coast Guard Search and Rescue Centers. Stratos Global Vessel Monitoring System Services are being sold through Thrane and Thrane Inc. For the Thrane and Thrane and Stratos Global addresses, look under the heading “VMS Provider Address”.

C2. VIZADA Satellite Services

Inmarsat-C is a store-and-forward data messaging service. Inmarsat C allows users to send and receive information virtually anywhere in the world, on land, at sea, and in the air. Inmarsat-C supports a wide variety of applications including Internet e-mail, position and weather reporting, a free daily news service, and remote equipment monitoring and control. Mariners can use Inmarsat-C free of charge to send critical safety at sea messages as part of the U.S. Coast Guard's Automated Mutual-Assistance Vessel Rescue system and of the NOAA Shipboard Environmental Acquisition System programs. VIZADA Vessel Monitoring System Services is being sold through Thrane & Thrane, Inc. For the Thrane & Thrane and VIZADA addresses, look under the heading “VMS Provider Address”.

VIZADA and Stratos Global Features offered through Thrane & Thrane: Customer Service supports the security and privacy of vessel accounts and messages with the following: (a) password authentication for vessel owners or agents and for OLE to prevent unauthorized changes or inquiries; and (b) separation of private messages from OLE messages. (OLE requires VMS-related position reports, only.) Billing is separated between accounts for the vessel owner and the OLE. VMS position reports and vessel-initiated messaging are paid for by the vessel owner. Messaging initiated from OLE operations center is paid for by NOAA.

Thrane & Thrane provides customer service for VIZADA and Stratos Global users to support and establish two-way transmission of transceiver unit configuration commands between the transceiver and land-based control centers. This supports OLE's message needs and, optionally, fishermen's private message needs.

The vessel owner can configure automatic position reports to be sent to a private address, such as to a fleet management company. The vessel can send and receive private e-mail and other messages when the transceiver has such an input device as a laptop or personal computer attached.

Vessel owners wishing to use Stratos Global or VIZADA services will need to purchase an Inmarsat-C transceiver approved for the fishery. The owner will need to complete an Inmarsat-C system use contract with Stratos Global or VIZADA, including a mobile earth station license (FCC requirement). The transceiver will need to be commissioned with Inmarsat according to Stratos Global's or VIZADA instructions. The owner should refer to and follow the configuration, installation, and service activation procedures for the specific transceiver purchased.

III. VMS Provider Addresses

Boatracs corporate offices address is 9155 Brown Deer Rd, Suite 8, San Diego, CA 92121. Telephone numbers are toll free (877) 468-8722 and direct dialed (858) 458-8100. The primary point of contact is Debbie Foste, Manager of Fisheries, e-mail dfoste@boatracs.com, direct telephone number (877) 468-8722 ext. 105, and Winston Richardson, e-mail wrichardson@boatracs.com, direct telephone number (858) 458-8106.

Faria Watchdog Inc., authorized reseller. Reseller information can be found on the internet website at www.vmstracking.com. Alternatively vessel owners may contact, Faria WatchDog Inc., 385 Norwich-New London Turnpike, Uncasville, CT 06382, 1-877-888-5569, 860-848-2704 fax, information@fariawatchdog.com e-mail.

For Thrane & Thrane Sailor 3026D Gold VMS, Stratos Global or VIZADA information contact Lauri Paul, Marine Products, Thrane & Thrane, Inc., 509 Viking Drive, Suite K, L & M, Virginia Beach, VA 23452; voice: 757-753-9450 or 757-463-9557; fax: 757-463-9581, e-mail: lp@thrane.com; website: http://www.us.thrane.com/.

Dated: October 22, 2007.
William T. Hogarth,
Assistant Administrator for Fisheries, National Marine Fisheries Service.

[FR Doc. E7-21093 Filed 10-25-07; 8:45 am]

BILLING CODE 3510-22-S